ENVIRONMENTAL PROTECTION AGENCY

[FRL-7557-1]

RIN 2040-AD93

Stakeholder Meeting Concerning Development of “Revisions to the Unregulated Contaminant Monitoring Regulation for Public Water Systems”; Notice of Public Meeting

AGENCY: Environmental Protection Agency.

ACTION: Notice.

SUMMARY: Section 1445 (a) (2) (42 U.S.C. 300j-4 (a)) of the Safe Drinking Water Act (SDWA), as amended in 1996, requires the Environmental Protection Agency (EPA) to promulgate regulations establishing criteria for a monitoring program for unregulated contaminants. Monitoring shall vary based on system size, source water, and contaminants likely to be found. The SDWA also specifies that for systems serving 10,000 persons or fewer, only a representative sample of systems must monitor. Per SDWA, EPA is required to issue, every 5 years, a list of not more than 30 unregulated contaminants to be monitored by public water systems. The first list of unregulated contaminants was published on September 17, 1999 (64 FR 50556). A second list is scheduled to be proposed by August 2004.

The purpose of this notice is to announce a public stakeholder meeting to present information to stakeholders concerning the status of the Agency's efforts in the areas of analyte selection, analytical methods, sampling design, determination of minimum reporting levels, and other possible revisions to the current regulation.

DATES: The meeting will be held on October 29, 2003, from 9 a.m. until 5 p.m., Eastern standard time.

ADDRESSES: The public meeting will be held at the Holiday Inn Rosslyn, in the Shenandoah Room on the 2nd floor, at 1900 North Fort Myer Drive, Arlington, VA 22209. The Inn is located one block north of the Rosslyn Virginia Metro stop on the orange and blue lines. The Inn's telephone number is (703) 807-2000.

FOR FURTHER INFORMATION CONTACT: For more information on the location, or general background information, please contact the Safe Drinking Water Hotline, phone: (800)426-4791 or (703)285-1093, e-mail: hotline-sdwa@epa.gov. For technical information contact David J. Munch, Regulation Manager for the “Revisions to the Unregulated Contaminant Monitoring Regulation for Public Water Systems,” USEPA, Office of Ground Water and Drinking Water, Mail Code 140, 26 West Martin Luther King Drive, Cincinnati, Ohio 45219. E-mail: munch.dave@epa.gov. An informational package will be prepared for the meeting and available at the meeting site on October 29, 2003. If you wish to receive this package prior to the meeting, contact Maureen Devitt of The Cadmus Group at Mdevitt@cadmusgroup.com.

SUPPLEMENTARY INFORMATION: The meeting is open to the public. Statements from the public will be taken if time permits. This meeting will be held in a building that is accessible to persons using wheel chairs and scooters. Any person needing special accommodations at this meeting, including wheelchair access, should contact Susan Bjork at The Cadmus Group at (617) 673-7166 or Sbjork@cadmusgroup.com , as soon as possible, but preferably no less than five business days before the scheduled meeting.

Dated: September 5, 2003.
Cynthia C. Dougherty,
Director, Office of Ground Water and Drinking Water.

[FR Doc. 03-23162 Filed 9-10-03; 8:45 am]

BILLING CODE 6560-50-P